DEPARTMENT OF THE TREASURY

Internal Revenue Service

Open Meeting of the Taxpayer Advocacy Panel

AGENCY: Internal Revenue Service (IRS), Treasury.

ACTION: Cancellation notice.

SUMMARY: An open meeting of the Taxpayer Advocacy Panel will be held. The Taxpayer Advocacy Panel is soliciting public comment, ideas, and suggestions on improving customer service at the Internal Revenue Service.

DATES: The meeting will be held Thursday, November 3, 2005, from 1:30 to 5:30 p.m. and Friday, November 4, 2005, from 8 a.m. to noon, Eastern Time has been cancelled. The meeting will be rescheduled for a later date.

FOR FURTHER INFORMATION CONTACT: LaVerne Walker at 1-866-602-2223.

SUPPLEMENTARY INFORMATION: Notice is hereby given pursuant to Section 10(a)(2) of the Federal Advisory Committee Act, 5 U.S.C. App. (1988) that an open meeting of the Taxpayer Advocacy Panel would have been Thursday, November 3, 2005, from 1:30 to 5:30 p.m. and Friday, November 4, 2005, from 8 a.m. to noon, Eastern Time. If you would like to have the Taxpayer Advocacy Panel consider a written statement, please call 1-866-602-2223, or write to LaVerne Walker at 1111 Constitution Avenue, NW., Room 7704, Washington, DC 20224. Or you can contact us at www.improveirs.org.

Ms. Walker can be reached at 1-866-602-2223 or by fax at 202-622-6143.

Dated: October 26, 2005.
Martha Curry,
Acting Director, Taxpayer Advocacy Panel.

[FR Doc. E5-6051 Filed 11-1-05; 8:45 am]

BILLING CODE 4830-01-P